CIVIL RIGHTS COMMISSION

Sunshine Act Meeting Notice

AGENCY: United States Commission on Civil Rights.

ACTION: Notice of Commission Public Business Meeting.

DATES: Friday, July 13, 2018, 10:00 a.m. EST.

ADDRESSES: Place: National Place Building, 1331 Pennsylvania Ave. NW, 11th Floor, Suite 1150, Washington, DC 20425. (Entrance on F Street NW.)

FOR FURTHER INFORMATION CONTACT: Brian Walch: (202) 376-8371; TTY: (202) 376-8116; publicaffairs@usccr.gov.

SUPPLEMENTARY INFORMATION: This business meeting is open to the public.There will also be a call-in line for individuals who desire to listen to the presentations: (855) 719-5012, Conference ID 6113336. The event will live-stream at: https://www.youtube.com/user/USCCR/videos. (Streaming information is subject to change.) Persons with disabilities who need accommodation should contact Pamela Dunston at (202) 376-8105 or at access@usccr.gov at least seven (7) business days before the scheduled date of the meeting.

Meeting Agenda

I. Approval of Agenda

II. Business Meeting

A. Discussion and vote on Commission Advisory Committee Chair

• John Malcolm, nominated to Chair the Washington, DC Advisory Committee

B. Presentation by New Hampshire Advisory Committee Chair on the Committee's recently released report: Voting Rights in New Hampshire

C. Presentation on the 50th anniversary of the Kerner Commission

• Alan Curtis, Ph.D., President and Chief Executive Officer, The Eisenhower Foundation

D. Presentation by Alaska Advisory Committee Chair on the Committee's recently-released report: Alaska Native Voting Rights

E. Management and operations

• Staff Director's Report

III. Adjourn Meeting

Dated: July 2, 2018.
Brian Walch,
Director, Communications and Public Engagement.

[FR Doc. 2018-14524 Filed 7-2-18; 4:15 pm]

BILLING CODE 6335-01-P